DEPARTMENT OF ENERGY

Federal Energy Regulatory Commission

[Docket Nos. ER06-826-000, et al.]

PJM Interconnection, L.L.C., et al.; Electric Rate and Corporate Filings

May 4, 2005.

The following filings have been made with the Commission. The filings are listed in ascending order within each docket classification.

1. Vermont Electric Power Company and Vermont Transco LLC

[Docket Nos. EC06-115-000]

Central Vermont Public Service Corporation and Green Mountain Power Corporation

[EC06-116-000]

Vermont Electric Power Company, Vermont Transco LLC, ISO New England, Inc., Central Vermont Public Service Corporation, Vermont Electric Cooperative, Inc.

[ER06-900-000]

Vermont Electric Power Company and Vermont Transco LLC

[AC06-107-000]

Take notice that on April 20, 2006, Vermont Electric Power Company (VELCO) tendered for filing an application pursuant to section 203 of the Federal Power Act for authorization of a disposition of jurisdictional facilities whereby virtually all of its transmission assets will be transferred to Vermont Transco LLC, a limited liability company being created under Vermont law, in exchange for a membership interest and other consideration. VELCO further states that in conjunction with the transaction, VELCO and VTransco proposed to transfer, cancel and/or modify several rate schedules that pre-date the provision of service under an open access transmission tariff and several service agreements executed under VELCO's local OATT, which are currently under VELCo's local service schedule in ISO New England's FERC Electric Tariff No. 3. VELCO and VTransco requests authorization to treat the costs associated with the transactions as regulatory assets that will be amortized and recovered over fifteen years.

ISO New England Inc., Central Vermont Public Service Corporation, Green mountain Power Corporation and Vermont Electric Cooperative, Inc. have joined in this filing for the limited purpose of proposing modifications to the regional documents in New England, including the ISO New England's FERC Electric Tariff No. 3, including several local service schedules contained in Schedule 21. In addition, Central Vermont and Green Mountain Power requests authorization pursuant to section 203 of the Federal Power Act to acquire membership units that are being issued by VTransco.

Comment Date: 5 p.m. Eastern Time on May 15, 2006.

2. Indeck Energy Services of Silver Springs, Inc.

[Docket No. EG06-40-000]

Take notice that on April 3, 2006, Indeck Energy Services of Silver Springs, Inc. filed an amendment to its notice of self certification of exempt wholesale generator status filed on March 10, 2006.

Comment Date: 5 p.m. Eastern Time on May 18, 2006

3. PJM Interconnection, L.L.C.

[Docket Nos. ER06-826-000 and ER06-826-001]

Take notice that on April 27, 2006, PJM Interconnection, L.L.C filed revised tariff sheets in reference to its Market Monitoring Plan filed with the Commission on April 3, 2006. PJM proposes a new effective date of July 17, 2006 for the revised tariff sheets.

Comment Date: 5 p.m. Eastern Time on June 8, 2006.

4. PJM Transmission Owners

[Docket No. ER06-880-000]

Take notice that on April 20, 2006 PJM Transmission Owners jointly filed modifications to Schedule 12 of the PJM Open Access Transmission Tariff to clarify the allocations of transmission expansion costs to merchant transmission owners and the calculations of transmission enhancement charges for point-to-point transmission customers.

Comment Date: 5 p.m. Eastern Time on May 12, 2006.

5. Catalyst Vidalia Corporation, Catalyst Vidalia Holding Corporation, Catalyst Vidalia Acquisition Corporation, The Catalyst Group, Inc.

[Docket No. PH06-44-000]

Take notice that on April 26, 2006, Catalyst Vidalia Corporation, Catalyst Vidalia Holding Corporation, Catalyst Vidalia Acquisition Corporation, and The Catalyst Group, Inc. filed a notification of exemption pursuant to Order Nos. 667 and 667-A and 18 CFR 366.3(b) and 366.4(b)(1), seeking exemption from the requirements of the Public Utility Holding Company Act of 2005.

Comment Date: 5 p.m. Eastern Time on May 17, 2006.

6. New Jersey Resources Corporation

[Docket No. PH06-45-000]

Take notice that on April 27, 2006 New Jersey Resources Corporation filed a notice of petition for exemption from the requirements of public utility holding company act of 2005, pursuant to 18 CFR 366.3(b) and 366.4(b)(1).

Comment Date: 5 p.m. Eastern Time on May 15, 2006.

7. Green Mountain Power Corporation

[Docket No. PH06-46-000]

Take notice that on May 1, 2006 Green Mountain Power Corporation (GMP) on behalf of itself and its partially owned subsidiary, Vermont Electric Power Company, Inc. (VELCO) submitted a notice of petition for waiver of the Commission's regulations under the Public Utility Holding Company Act of 2005 pursuant to 18 CFR 366.3(c)(1) because GMP and VELCO are single-state holding company.

Comment Date: 5 p.m. Eastern Time on May 22, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-7158 Filed 5-10-06; 8:45 am]

BILLING CODE 6717-01-P